DEPARTMENT OF TRANSPORTATION

Federal Aviation Administration

14 CFR Part 39

[Docket No. FAA 2015 7491; Directorate Identifier 2015-NE-39-AD; Amendment 39-18569; AD 2016-13-05]

RIN 2120-AA64

Airworthiness Directives; General Electric Company Turbofan Engines

Correction

In rule document 2016-14474, beginning on page 41208 in the issue of Friday, June 24, 2016, make the following correction:

§ 39.13 [Corrected]

On page 41210, in the table titled “Table 1 to Paragraph (e)—HPC Stage 8-10 Spool S/Ns”, the first row of the table should appear as follows:

1844M90G01 | GWN005MF | GWNBK753 | GWNBS077 | GWNBS497 | GWNBS724
| GWN005MG | GWNBK754 | GWNBS078 | GWNBS499 | GWNBS794
| GWN0087M | GWNBK841 | GWNBS079 | GWNBS500 | GWNBS810
| GWN0087N | GWNBK842 | GWNBS080 | GWNBS501 | GWNBS811
| GWN00DGK | GWNBK843 | GWNBS081 | GWNBS502 | GWNBS812
| GWN00DGL | GWNBK844 | GWNBS157 | GWNBS609 | GWNBS813
| GWNBJ992 | GWNBK952 | GWNBS158 | GWNBS610 | GWNBS814
| GWNBK667 | GWNBK953 | GWNBS159 | GWNBS611 | GWNBS910
| GWNBK674 | GWNBK954 | GWNBS160 | GWNBS612 | GWNBS911
| GWNBK675 | GWNBK955 | GWNBS266 | GWNBS613 | GWNBS912
| GWNBK743 | GWNBK956 | GWNBS267 | GWNBS614 | GWNBS914
| GWNBK744 | GWNBK957 | GWNBS268 | GWNBS721 | GWNBS915
| GWNBK751 | GWNBK958 | GWNBS269 | GWNBS722 | GWNBS982
| GWNBK752 | GWNBK959 | GWNBS270 | GWNBS723 | GWNBS983

[FR Doc. C1-2016-14474 Filed 6-29-16; 8:45 am]

BILLING CODE 1505-01-D